FEDERAL HOUSING FINANCE AGENCY

[No. 2018-N-09]

Privacy Act of 1974; System of Records

AGENCY: Federal Housing Finance Agency.

ACTION: Notice of a Modified System of Records.

SUMMARY: In accordance with the requirements of the Privacy Act of 1974, as amended (Privacy Act), the Federal Housing Finance Agency (FHFA) gives notice of and requests comments on the proposed revisions to an existing system of records entitled “Reasonable Accommodation Information System” (FHFA-18). The revised system contains information regarding an individual who files a request for reasonable accommodation or personal assistance service, and will be newly named “Reasonable Accommodation and Personal Assistance Services Information System.”

DATES: To be assured of consideration, comments must be received on or before September 26, 2018. The revision to the system of records will become effective on September 26, 2018 without further notice unless comments necessitate otherwise. FHFA will publish a new notice if the effective date is delayed to review comments or if changes are made based on comments received.

ADDRESSES: Submit comments to FHFA identified by “2018-N-09,” using any one of the following methods:

• Agency Website: www.fhfa.gov/open-for-comment-or-input.

• Federal eRulemaking Portal: http://www.regulations.gov. Follow the instructions for submitting comments. If you submit your comment to the Federal eRulemaking Portal, please also send it by email to FHFA at RegComments@fhfa.gov to ensure timely receipt by FHFA. Please include “Comments/No. 2018-N-09,” in the subject line of the message.

• Hand Delivered/Courier: The hand delivery address is: Alfred M. Pollard, General Counsel, Attention: Comments/No. 2018-N-09, Federal Housing Finance Agency, 400 7th Street SW, Eighth Floor, Washington, DC 20219. The package should be delivered to the 7th Street entrance Guard Desk, First Floor, on business days between 9 a.m. to 5 p.m.

• U.S. Mail, United Parcel Service, Federal Express, or Other Mail Service: The mailing address for comments is: Alfred M. Pollard, General Counsel, Attention: Comments/No. 2018-N-09, Federal Housing Finance Agency, 400 7th Street SW, Eighth Floor, Washington, DC 20219. Please note that all mail sent to FHFA via the U.S. Postal Service is routed through a national irradiation facility, a process that may delay delivery by approximately two weeks. For any time-sensitive correspondence, please plan accordingly.

See SUPPLEMENTARY INFORMATION for additional information on submission and posting of comments.

FOR FURTHER INFORMATION CONTACT: Stacy J. Easter, Privacy Act Officer, privacy@fhfa.gov or (202) 649-3803, or David A. Lee, Senior Agency Official for Privacy, privacy@fhfa.gov or (202) 649-3803 (not toll-free numbers), Federal Housing Finance Agency, Eighth Floor, 400 7th Street SW, Eighth Floor, Washington, DC 20219. The telephone number for the Telecommunications Device for the Hearing Impaired is (800) 877-8339.

SUPPLEMENTARY INFORMATION:

I. Comments

FHFA seeks public comments on the revisions to the system of records and will take all comments into consideration. See 5 U.S.C. 552a(e)(4) and (11). In addition to referencing “Comments/No. 2018-N-09,” please reference “Reasonable Accommodation and Personal Assistance Services Information System (FHFA-18).”

FHFA will make all comments timely received available for examination by the public through the electronic comment docket for this notice, which is located on the FHFA website at http://www.fhfa.gov. All comments received will be posted without change and will include any personal information you provide, such as name, address (mailing and email), telephone numbers, and any other information you provide.

II. Introduction

This notice informs the public of FHFA's proposed revisions to an existing system of records. This notice satisfies the Privacy Act requirement that an agency publishes a system of records notice in the Federal Register when there is an addition or change to an agency's systems of records. Congress has recognized that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedure Act. The Director of FHFA has determined that records and information in this system of records is not exempt from the requirements of the Privacy Act.

As required by the Privacy Act, 5 U.S.C. 552a(r), and pursuant to section 7 of OMB Circular No. A-108, “Federal Agency Responsibilities for Review, Reporting, and Publication under the Privacy Act,” dated December 23, 2016 (81 FR 94424 (Dec. 23, 2016)), prior to publication of this notice, FHFA submitted a report describing the system of records covered by this notice to the Office of Management and Budget, the Committee on Oversight and Government Reform of the House of Representatives, and the Committee on Homeland Security and Governmental Affairs of the Senate.

III. Revised Systems Of Records

The “Reasonable Accommodation Information System” (FHFA-18) system of records is being revised to change the system name, address new records that will be collected, update the system's purpose, add one new routine use, and make non-substantive edits. The system's new name will be “Reasonable Accommodation and Personal Assistance Services Information System.” The current purpose of the system is to collect and maintain records from individuals who request a reasonable accommodation. FHFA is proposing to expand the purpose of the system to include records collected and maintained from individuals who request personal assistance services. The revised routine use updates the language for the disclosure of records necessary to respond to a breach. The added routine uses address the disclosure of records to the U.S. Department of Agriculture for purposes of procuring assistive technologies and services through the Technology & Accessible Resources Give Employment Today Center in response to a request for reasonable accommodation, as well as, the disclosure of records that may reasonably be needed by another agency in responding to a breach.

The revised system of records notice is set out in its entirety and described in detail below.

SYSTEM NAME AND NUMBER:

Reasonable Accommodation and Personal Assistance Services Information System (FHFA-18).

SECURITY CLASSIFICATION:

No Classified Information.

SYSTEM LOCATION:

Federal Housing Finance Agency, 400 7th Street SW, Washington, DC 20219, and any alternate work site utilized by employees of the Federal Housing Finance Agency (FHFA) or individuals assisting such employees.

SYSTEM MANAGER(S):

Office of Human Resources Management, Employee Relations and Benefits, Senior Human Resources Specialist, (202) 649-3807, Federal Housing Finance Agency, 400 7th Street SW, Washington, DC 20219 and any alternate work site utilized by employees of the Federal Housing Finance Agency (FHFA) or by individuals assisting such employees.

AUTHORITY FOR MAINTENANCE OF THE SYSTEM:

The Rehabilitation Act of 1973 (29 U.S.C. 791); 29 CFR part 1630; Executive Orders 13163, 13164 and 13548; Equal Employment Opportunity Commission (EEOC) Policy Guidance on Executive Order 13164; and EEOC Enforcement Guidance: Application of the American with Disabilities Act (ADA) to Contingent Workers Placed by Temporary Agencies and Other Staffing Firms.

PURPOSE(S) OF THE SYSTEM:

The purpose of the System is to allow FHFA to collect and maintain records on applicants for employment, employees (including former employees), and others who request a reasonable accommodation under sections 501, 504, and 701 of the Rehabilitation Act of 1973 and under the ADA Amendments of 2008, and employees who request or receive personal assistance services under Section 501, as amended, of the Rehabilitation Act. In addition, the purpose of the System is to track and report to appropriate entities the processing of requests for reasonable accommodation and personal assistance service to ensure compliance with applicable laws and regulations, and to preserve and maintain the confidentiality of medical information. Information in this System will be used to evaluate, approve, deny, and/or implement a request for reasonable accommodation or personal assistance service.

CATEGORIES OF INDIVIDUALS COVERED BY THE SYSTEM:

Applicants for employment, employees (current and former), and any other individuals who request or receive a reasonable accommodation under sections 501, 504, and 701 of the Rehabilitation Act of 1973 and under the ADA Amendments of 2008, and employees who request or receive personal assistance services under Section 501, as amended, of the Rehabilitation Act. This also includes authorized individuals or representatives (e.g., family member or attorney) who file requests for reasonable accommodation on behalf of an applicant for employment, or who file requests for reasonable accommodations or personal assistance services on behalf of an employee, or other individual, as well as former employees who requested or received reasonable accommodations or personal assistance services during their employment with FHFA.

CATEGORIES OF RECORDS IN THE SYSTEM:

Records may include requester's name, contact information (i.e., address, telephone number, email address and any other information provided), or other unique identifier; requester's authorized representative's name and contact information (i.e., address, telephone number, email address and any other information provided); requester's status (i.e., applicant, employee, or other); request date; job(s) (occupational series, grade level, and agency component) for which a reasonable accommodation or personal assistance service had been requested; other reasons for requesting a reasonable accommodation or personal assistance service; information concerning the nature of any disability and the need for accommodation or assistance; appropriate medical or other documentation provided in support of the request; details of a reasonable accommodation or personal assistance service request to include: type(s) of accommodation or assistance requested; whether the accommodation requested was pre-employment or during employment, or for some other reason; whether the assistance requested was during employment; how the requested accommodation would assist the individual in applying for a job, how the requested accommodation or assistance would assist the individual in performing current job functions, or meeting some other need/requirement; the amount of time taken to process the request; whether the request was granted or denied and, if denied, the reason for the denial; and the sources of any assistance consulted in trying to identify possible reasonable accommodations or providing personal assistance services.

RECORD SOURCE CATEGORIES:

Information is provided by applicants for employment, employees, other individuals requesting a reasonable accommodation or personal assistance service, and/or their authorized representatives, as well as individuals who are responsible for processing such requests.

ROUTINE USES OF RECORDS MAINTAINED IN THE SYSTEM, INCLUDING CATEGORIES OF USERS AND PURPOSES OF SUCH USES:

In addition to those disclosures generally permitted under 5 U.S.C. 552a(b) of the Privacy Act, these records or information contained therein may specifically be disclosed outside FHFA as a routine use pursuant to 5 U.S.C. 552a(b)(3) as follows:

(1) To appropriate agencies, entities, and person when (1) FHFA suspects or has confirmed that there has been a breach of the system of records; (2) FHFA has determined that as a result of the suspected or confirmed breach there is a risk of harm to individuals, FHFA (including its information systems, programs, and operations), the Federal Government, or national security; and (3) the disclosure made to such agencies, entities, and persons is reasonably necessary to assist in connection with FHFA's efforts to respond to the suspected or confirmed breach or to prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, tribal, foreign or a financial regulatory organization charged with the responsibility of investigating or prosecuting such violation or charged with enforcing or implementing a statute, or rule, regulation or order issued pursuant thereto.

(3) To any individual during the course of any inquiry or investigation conducted by FHFA, or in connection with civil litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) To a Congressional office from the record of an individual in response to an inquiry from the Congressional office made at the request of that individual.

(7) To contractor personnel, grantees, volunteers, interns, and others performing or working on a contract, service, grant, cooperative agreement, or project for FHFA.

(8) To consultants, contractor personnel, entities, vendors or suppliers, employees of other government agencies, whether federal, state or local, as necessary to make a decision on a request for accommodation or to implement the decision.

(9) To a court, magistrate, or administrative tribunal in the course of presenting evidence, including disclosures to opposing counsel or witnesses in the course of civil discovery, litigation, or settlement negotiations or in connection with criminal law proceedings or in response to a subpoena from a court of competent jurisdiction.

(10) To another Federal agency or commission with responsibility for labor or employment relations or other issues, including equal employment opportunity and reasonable accommodation or personal assistance service issues, when that agency or commission has jurisdiction over reasonable accommodation or personal assistance service.

(11) To the Office of Management and Budget, Department of Justice (DOJ), Department of Labor, Office of Personnel Management, Equal Employment Opportunity Commission, or Office of Special Counsel to obtain advice regarding statutory, regulatory, policy, and other requirements related to reasonable accommodation or personal assistance service.

(12) To appropriate third parties contracted by FHFA to facilitate mediation or other dispute resolution procedures or programs.

(13) To the Department of Defense for purposes of procuring assistive technologies and services through the Computer/Electronic Accommodation Program in response to a request for reasonable accommodation.

(14) To the U.S. Department of Agriculture for purposes of procuring assistive technologies and services through the Technology & Accessible Resources Give Employment Today Center in response to a request for reasonable accommodation.

(15) To DOJ, (including United States Attorney Offices), or other Federal agency conducting litigation or in proceedings before any court, adjudicative or administrative body, when it is necessary to the litigation and one of the following is a party to the litigation or has an interest in such litigation:

1. FHFA

2. Any employee of FHFA in his/her official capacity;

3. Any employee of FHFA in his/her individual capacity where DOJ or FHFA has agreed to represent the employee; or

4. The United States or any agency thereof, is a party to the litigation or has an interest in such litigation, and FHFA determines that the records are both relevant and necessary to the litigation and the use of such records is compatible with the purpose for which FHFA collected the records.

(16) To the National Archives and Records Administration or other Federal agencies pursuant to records management inspections being conducted under the authority of 44 U.S.C. 2904 and 2906.

(17) To an agency, organization, or individual for the purpose of performing audit or oversight operations as authorized by law, but only such information as is necessary and relevant to such audit or oversight function.

(18) To another Federal agency or Federal entity, when FHFA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records are maintained in electronic format, paper form, and magnetic disk or tape. Electronic records are stored in computerized databases. Paper and magnetic disk or tape records are stored in locked file rooms, locked file cabinets, or locked safes.

POLICIES AND PRACTICES FOR RETRIEVAL OF RECORDS:

Records may be retrieved by name, or some other unique identifier.

POLICIES AND PRACTICES FOR RETENTION AND DISPOSAL OF RECORDS:

Records are retained and disposed of in accordance with the appropriate National Archives and Records Administration General Records Schedules (GRS), GRS 2.3.20 and FHFA Comprehensive Records Schedule, Item 5.3 Human Resources Records. Disposal is by shredding or other appropriate disposal system.

ADMINISTRATIVE, TECHNICAL, AND PHYSICAL SAFEGUARDS:

Records are safeguarded in a secured environment. Buildings where records are stored have security cameras and 24-hour security guard service. Computerized records are safeguarded through use of access codes and other information technology security measures. Paper records are safeguarded by locked file rooms, locked file cabinets, or locked safes. Access to the records is restricted to those who require the records in the performance of official duties related to the purposes for which the system is maintained.

RECORD ACCESS PROCEDURES:

Direct requests for access to a record to the Privacy Act Officer, Federal Housing Finance Agency, 400 7th Street SW, Washington, DC 20219, or privacy@fhfa.gov in accordance with the procedures set forth in 12 CFR part 1204.

CONTESTING RECORD PROCEDURES:

Direct requests to contest or appeal an adverse determination for a record to the Privacy Act Appeals Officer, Federal Housing Finance Agency, 400 7th Street SW, Washington, DC 20219, or privacy@fhfa.gov in accordance with the procedures set forth in 12 CFR part 1204.

NOTIFICATION PROCEDURES:

Direct inquiries as whether this system contains a record pertaining to an individual to the Privacy Act Officer, Federal Housing Finance Agency, 400 7th Street SW, Washington, DC 20219, or privacy@fhfa.gov in accordance with the procedures set forth in 12 CFR part 1204.

EXEMPTIONS PROMULGATED FOR THE SYSTEM:

None.

HISTORY:

The Reasonable Accommodation Information System (FHFA-18) system of records was last published in the Federal Register on August 9, 2012 (77 FR 47641, 47646).

Dated: August 21, 2018.
Melvin L. Watt,
Director, Federal Housing Finance Agency.

[FR Doc. 2018-18411 Filed 8-24-18; 8:45 am]

BILLING CODE 8070-01-P